DEPARTMENT OF DEFENSE

Department of the Navy

Notice of Availability of Government-Owned Inventions; Available for Licensing

AGENCY: Department of the Navy, DoD.

ACTION: Notice.

SUMMARY: The inventions listed below are assigned to the United States Government as represented by the Secretary of the Navy. U.S. Patent Number 6,664,915 entitled “Identification Friend or Foe System Including Short Range UV Shield” issued on December 16, 2003; U.S. Patent Number 7,661,271 entitled “Integrated Electric Gas Turbine” issued on February 16, 2010; U.S. Patent Number 6,600,694 entitled “Digital Signal Processor Based Torpedo Counter-measure” issued on July 29, 2003; U.S. Patent Number 6,820,025 entitled ” Method and Apparatus for Motion Tracking of an Articulated Rigid Body” issued on November 16, 2004; U.S. Patent Number 6,717,525 entitled “Tactical Vectoring Equipment (TVE)” issued on April 6, 2004; U.S. Patent Number 6,624,780 entitled “False Target Radar Image Generator for Countering wideband and Imaging Radars” issued on September 11, 2003; U.S. Patent Number 7,725,595 entitled “Embedded Communications System and Method” issued on May 25, 2010; U.S. Patent Number 8,443,101 entitled “Method for Identifying and Blocking Embedded Communications” issued on May 14, 2013; U.S. Patent Number 7,675,198 entitled “Inductive Pulse Forming Network for High-current, High-power Applications” issued on March 9, 2010; U.S. Patent Number 8,018,096 entitled “Inductive Pulse Forming Network for High-current, High-power Applications” issued September 13, 2011; U.S. Patent Number 7,074,697 entitled “Doping-assisted Defect Control in Compound Semiconductors” issued on July 11, 2006; U.S. Patent Number 7,089,148 entitled “Method and Apparatus for Motion Tracking of an Articulated Rigid Body” issued August 8, 2006; U.S. Patent Number 7,627,003 entitled “Automatic Clock Synchronization and Distribution Circuit for Counter Clock Flow Pipelined Systems” issued on December 1, 2009; U.S. Patent Number 8,085,817 entitled “Automatic Clock Synchronization and Distribution Circuit for Counter Clock Flow Pipelined Systems” issued December 27, 2011; U.S. Patent Number 8,019,090 entitled “Active Feedforward Noise Vibration Control System” issued September 13, 2011; U.S. Patent Number 8,064,541 entitled “Hyperphase Shift Keying” issued November 22, 2011; U.S. Patent Number 8,050,849 entitled “Method to Reduce Fuel Consumption by Naval Vessels that Operate in Mixed Propulsion Modes” issued November 1,2011; U.S. Patent Number 8,006,937 entitled “Spacecraft Docking Interface Mechanism” issued October 12, 2010; U.S. Patent Number 7,811,918 entitled “Electric Current Induced Liquid Metal Flow and Metallic Conformal Coating of Conductive Templates” issued on October 12, 2010; U.S. Patent Number 8,467,548 entitled “Miniature Directional Sound Sensor Using Micro-Electro- Mechanical-System (MEMS)” issued on June 8, 2013; U.S. Patent Number 8,579,535 entitled “Micro-coupling Active Release Mechanism” issued on November 12, 2013; U.S. Patent Number 9,003,627 entitled “Micro-coupling Active Release Mechanism” issued on April 14, 2015; U.S. Patent Number 8,654,672 entitled “Method for Optimal Transmitter Placement in Wireless Mesh Networks” issued on February 18, 2014; U.S. Patent Number 8,473,826 entitled “Hybrid Soft Decision Hard Decision Reed-Solomon Decoding” issued June 25, 2013; U.S. Patent Number 8,433,959 entitled “Method for Determining Hard Drive Contents Through Statistical Drive Sampling” issued on April 30, 2013; U.S. Patent Number 8,446,096 entitled “Terahertz (THz) Reverse Micromagnetron” issued on May 21, 2013; U.S. Patent Number 8,624,497 entitled “Terahertz (THz) Reverse Micromagnetron” issued on January 7, 2014; U.S. Patent Number 8,724,598 entitled “Method for Energy-efficient, Traffic-adaptive, Flow-specific Medium Access For Wireless Networks” issued on May 13, 2014; U.S. Patent Number 8,269,658 entitled “Photonic Analog-to-Digital Conversion Using the Robust Symmetrical Number System” issued on September 18, 2012; U.S. Patent Number 9,194,379 entitled “Field Ionization Based Electrical Space Ion Thruster Using A Permeable Substrate” issued on November 24, 2015; U.S. Patent Number 8,800,930 entitled “Aerial Delivery System with High Accuracy Touchdown” issued on August 12, 2014; U.S. Patent Number 8,730,098 entitled “Method for Radar Detection of Persons Wearing Wires” issued on May 20, 2014; U.S. Patent Number 8,525,393 entitled “Bimaterial Microelectromechanical System (MEMS) Solar Power Generator” issued on September 3, 2013; U.S. Patent Number 8,526,746 entitled “Near Lossless Data Compression Method Using Nonuniform Sampling” issued on September 3, 2013; U.S. Patent Number 8,489,256 entitled “Automatic Parafoil Turn Calculation Method and Apparatus” issued on July 16, 2013; U.S. Patent Number 8,437,891 entitled “Method And Apparatus for Parafoil Guidance That Accounts For Ground Winds” issued on May 7, 2013; U.S. Patent Number 8,818,581 entitled “Parafoil Electronic Control Unit Having Wireless Connectivity” issued on August 26, 2014; U.S. Patent Number 9,331,773 entitled “Instantaneous Wireless Network Established By Simultaneously Descending Parafoils” issued on May 3, 2016; U.S. Patent Number 8,483,891 entitled “Automatically Guided Parafoil Directed to Land on a Moving Target” issued on July 9, 2013; U.S. Patent Number 8,693,365 entitled “Method and Apparatus for State-Based Channel Selection Method in Multi-Channel Wireless Communications Networks” issued on April 8, 2014; U.S. Patent Number 8,810,121 entitled “Method and Device to Produce Hot, Dense, Long-lived Plasmas” issued on August 19, 2014; U.S. Patent Number 8,746,120 entitled “Boosted Electromagnetic Device and Method to Accelerate Solid Metal Slugs to High Speeds” issued on June 10, 2014; U.S. Patent Number 8,878,742 entitled “Dipole with an Unbalanced Microstrip Feed” issued on November 4, 2014; U.S. Patent Number 9,038,958 entitled “Method And Apparatus For Contingency Guidance Of A CMG-Actuated Spacecraft” issued on May 26, 2015; U.S. Patent Number 8,880,246 entitled “Method and Apparatus for Determining Spacecraft Maneuvers” issued on November 4, 2014; U.S. Patent Number 9,248,501 entitled “Method for Additive Manufacturing Using pH and Potential Controlled Powder Solidification” issued on February 2, 2016; U.S. Patent Number 9,234,732 entitled “Explosives Storage System” issued on January 12, 2016; U.S. Patent Number 9,417,044 entitled “Explosives Storage System” issued on August 16, 2016; U.S. Patent Number 9,419,920 entitled “Gateway Router and Method for Application-Aware Automatic Network Selection” issued on August 16, 2016; U.S. Patent Number 9,321,529 entitled “Hybrid Mobile Buoy for Persistent Surface and Underwater Exploration” issued on April 26, 2016; U.S. Patent Number 9,418,080 entitled “Method and System for Mobile Structured Collection of Data and Images” issued on August 16, 2016.

U.S. Patent Application Number 14/625,869 filed on February 19, 2015, entitled “Navigation System and Method Using an Adaptive-Gain Complementary Filter Device”; U.S. Patent Application Number 14/671,143 filed on March 27, 2015, entitled “Landing Signal Officer (LSO) Information Management and Trend Analysis (IMTA) Tool”; U.S. Patent Application Number 13/662,786 filed on October 29, 2012, entitled “Electromagnetic Device and Method to Accelerate Solid Metal Slugs to High Speeds”; U.S. Patent Application Number 14/978,769 filed on December 22, 2015, entitled “Bi-Material Terahertz Sensor and Terahertz Emitter Using Metamaterial Structures”; U.S. Patent Application Number 13/901,308 filed on May 23, 2013, entitled “Apparatus and Method for Improvised Explosive Device (IED) Network Analysis”; U.S. Patent Application Number 15/188,505 filed on June 21, 2016, entitled “Method and Apparatus for Guidance and Control of Uncertain Dynamical Systems”; U.S. Patent Application Number 14/853,330 filed on September 14, 2015, entitled “Method and System for Determining Shortest Oceanic Routes”; U.S. Patent Application Number 14/247,657 filed on April 8, 2014, entitled “A Method for Conducting Architecture Model-based Interoperability Assessment”; U.S. Patent Application Number 15/073,831 filed on March 18, 2016, entitled “Multirotor Mobile Buoy for Persistent Surface and Underwater Exploration”; U.S. Patent Application Number 14/338,222 filed on July 22, 2014, entitled “Method and Apparatus for Passive Geolocation of a 4G WIMAX Mobile Station Using a Single Base Station”; U.S. Patent Application Number 14/316,639 filed on June 26, 2014, entitled “Method and Apparatus for Singularity Avoidance for Control Moment Gyroscope (CMG) Systems Without Using Null Motion”; U.S. Patent Application Number 14/459,662 filed on August 14, 2014, entitled “Apparatus and Method for Full Planform Deployment at High Altitude”; U.S. Patent Application Number 14/480,220 filed on September 8, 2014, entitled “Solid-state Spark Chamber for Detection of Radiation”; U.S. Patent Application Number 14/555,798 filed on November 28, 2014, entitled “Method for Computer Vision Analysis of Cannon-launched Artillery Video”; U.S. Patent Application Number 14/945,781 filed on November 19, 2015, entitled “Method and Apparatus for Computer Vision Analysis of Cannon-launched Artillery Video”; U.S. Patent Application Number 14/699,051 filed on April 29, 2015, entitled “Unscented Control for Uncertain Dynamical Systems”; U.S. Patent Application Number 14/833,728 filed on August 24, 2015, entitled “Method and Apparatus for Rapid Acoustic Analysis”; U.S. Patent Application Number 14/810,026 filed on July 27, 2015, entitled “Method and Apparatus for Detection and Hazardous Environmental Conditions and Initiation of Alarm Devices”; U.S. Patent Application Number 14/883,384 filed on October 14, 2015, entitled “Wireless Signal Localization and Collection from an Airborne Symmetric Line Array Network”; U.S. Patent Application Number 14/852,734 filed on September 14, 2015, entitled “Network Monitoring Method Using Phantom Nodes”; U.S. Patent Application Number 14/851,404 filed on September 11, 2015, entitled “Method and Apparatus for Hybrid Time Synchronization Based on Broadcast Sequencing for Wireless Ad Hoc Networks”; U.S. Patent Application Number 14/919,346 filed on October 21, 2015, entitled “Method and Apparatus for Robust Symmetrical Number System (RSNS) Photonic Direction Finding (DF) System”; U.S. Patent Application Number 14/624,321 filed on February 17, 2015, entitled “Super Dielectric Materials”; U.S. Patent Application Number 14/665,865 filed on March 23, 2015, entitled “Method for Producing A Coating”; U.S. Patent Application Number 14/939,032 filed on November 12, 2015, entitled “Method and Apparatus for Computer Vision Analysis of Spin Rate of Marked Projectiles”; U.S. Patent Application Number 14/979,836 filed on December 28, 2015, entitled “Method for Interference-Robust Transmitter Placement in Wireless Mesh Networks”; U.S. Patent Application Number 14/850,410 filed on September 10, 2015, entitled “Capacitor with Ionic-solution-infused, Porous, Electrically Non-conductive Material”; U.S. Patent Application Number 15/208,784 filed on July 13, 2016, entitled “Unscented Optimization and Control Allocation”; U.S. Patent Application Number 15/225,174 filed on August 1, 2016, entitled “Device and Method for Cellular Synchronization Assisted Location Estimation”; U.S. Patent Application Number 15/082,225 filed on March 28, 2016, entitled “Automated Multi-plane Propulsion System”; U.S. Patent Application Number 15/131,733 filed on April 18, 2016, entitled “Multiple Unmanned Aerial Vehicle Launcher System”; U.S. Patent Application Number 15/137,090 filed on April 25, 2016, entitled “Device and Method for Applying Internal Pressure to a Hollow Cylinder”; U.S. Patent Application Number 15/137,285 filed on April 25, 2016, entitled “Life Preserver Location System”; U.S. Patent Application Number 62/293,376 filed on February 10, 2016, entitled “Method and Apparatus for Satellite Mission Planning”; U.S. Patent Application Number 62/303,186 filed on March 03, 2016, entitled “Method and Apparatus for Medium Voltage Pulsed Current Supplies Using Wide Bandgap Solid State Devices”; U.S. Patent Application Number 15/147,568 filed on May 05, 2016, entitled “MEMS Thermal Creep Cantilever”; U.S. Patent Application Number 15/093,047 filed on April 07, 2016, entitled “Light Activated Rotor”; U.S. Patent Application Number 15/130,189 filed on April 15, 2016, entitled “Light Activated Generator”; U.S. Patent Application Number 15/207,128 filed on July 11, 2016, entitled “AIGaAs/GaAs Solar Cell with Back-surface Alternating Contacts (GaAs BAC Solar Cell)”; U.S. Patent Application Number 62/370,066 filed on August 02, 2016, entitled “Chemical Method to Create Metal Films on Metal and Ceramic Substrates”.

ADDRESSES: Requests for copies of the inventions should be directed to Deborah Buettner, Director, Research and Sponsored Programs Office, NPS Code 41, 699 Dyer Road, Bldg. HA, Room 226, Monterey, CA 93943, telephone 831-656-7893 or email dbuettne@nps.edu.

FOR FURTHER INFORMATION CONTACT: Deborah Buettner, Director, Research and Sponsored Programs Office, NPS Code 41, 699 Dyer Road, Bldg. HA, Room 226, Monterey, CA 93943, telephone 831-656-7893. Due to U.S. Postal delays, please fax 831-656-2038, email: dbuettne@nps.edu or use courier delivery to expedite response.

Authority: 35 U.S.C. 207, 37 CFR part 404.

Dated: September 20, 2016.
C. Pan,
Lieutenant, Judge Advocate General's Corps, U.S. Navy, Alternate Federal Register Liaison Officer.

[FR Doc. 2016-23086 Filed 9-23-16; 8:45 am]

BILLING CODE 3810-FF-P